EQUAL EMPLOYMENT OPPORTUNITY COMMISSION

Sunshine Act Notice

TIME AND DATE: Monday, August 22, 2022, 10 a.m. Eastern Time.

PLACE: City of Buffalo Common Council Chambers, Buffalo City Hall (65 Niagara Square, 13th Floor, Buffalo, NY 14202). The meeting will also be held as a live streamed videoconference, with an option for listen-only audio dial-in by telephone. The public may attend in person, observe the videoconference, or connect to the audio-only dial-in by following the instructions that will be posted on www.eeoc.gov at least 24 hours before the meeting. Closed captioning and ASL services will be available.

MATTERS TO BE CONSIDERED: The following item will be considered at the meeting:

Strategic Enforcement Plan Listening Session I: Advancing Racial and Economic Justice in the Workplace

Note: In accordance with the Sunshine Act, the public will be able to observe the Commission's deliberations. (In addition to publishing notices on EEOC Commission meetings in the Federal Register, the Commission also provides information about Commission meetings on its website, www.eeoc.gov, and provides a recorded announcement at least a week in advance of future Commission meetings.)

Please telephone (202) 921-2750, or email commissionmeetingcomments@eeoc.gov at any time for information on this meeting.

CONTACT PERSON FOR MORE INFORMATION: Shelley Kahn, Acting Executive Officer, (202) 921-3061.

Dated: August 11, 2022.
Shelley Kahn,
Acting Executive Officer, Executive Secretariat.

[FR Doc. 2022-17661 Filed 8-12-22; 11:15 am]

BILLING CODE 6570-01-P